DEPARTMENT OF ENERGY

Federal Energy Regulatory Commission

[Docket No. RP00-535-000]

Texas Eastern Transmission Corporation; Notice of Proposed Changes in FERC Gas Tariff

September 7, 2000.

Take notice that on September 5, 2000, Texas Eastern Transmission Corporation (Texas Eastern) tendered for filing as part of its FERC Gas Tariff, Sixth Revised Volume No. 1, the following revised tariff sheets to become effective as indicated:

To Be Effective on March 27, 2000

First Rev Eighth Revised Sheet No. 463

Second Revised Sheet No. 464A

Fifth Revised Sheet No. 465

Second Revised Sheet No. 466

Fifth Revised Sheet No. 467

Second Revised Sheet No. 468

Fifth Revised Sheet No. 471

First Revised Sheet No. 683

To Be Effective on October 1, 2000

First Revised Sheet No. 456C

Second Revised Sheet No. 461

First Revised Sheet No. 476

Texas Eastern states that the purpose of this filing is to comply with the requirements of Order No. 637 regarding the waiver of the rate ceiling for short-term capacity release transactions and the prospective limitations on the availability of the Right-of-First-Refusal.

Texas Eastern states that copies of the filing were mailed to all affected customers and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance.)

David P. Boergers,
Secretary.

[FR Doc. 00-23443 Filed 9-12-00; 8:45 am]

BILLING CODE 6717-01-M